DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Link Up International, Corporation

[Docket Number FRA-2005-20426]

The Link Up International Corporation (LUIC) seeks a waiver of compliance from the requirements of Title 49 Code of Federal Regulations (CFR) § 231 Safety Appliance Standards, specifically § 231.1.(a) Handbrake (2) Dimensions. 231.1(a)(2)(ii) The brake wheel may be flat or dished, not less than 15, preferably 16, inches in diameter, of malleable iron, wrought iron, or steel.

LUIC requests this requirement be permanently waived to manufacture handbrake wheels from a high density polyethylene, and with an aluminum or steel insert, over-molded in place.

LUIC contends a composite wheel offers several cost and safety-related advantages over a standard steel wheel. LUIC contends the primary benefit of a composite wheel is weight reduction that will significantly reduce wear to drive shaft bearings that will extend life to the handbrake. LUIC believes there are secondary benefits related to safety by applying the composite wheel with increased torque and reduce personal injuries by having finger ridges and cross-checked etched pattern into the surface to enhance the grip, yet subtle enough to prevent personal injury compared to a steel wheel that can have a rough finish with metal burs. LUIC believes the rail industry will see a significant savings with composite handbrake wheels by purchase price equal to or below standard steel wheels, with longer handbrake life, and elimination of handbrake injuries.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-20426) and must be submitted in triplicate to the Docket Clerk, DOT Central Docket Management Facility, Room Pl-401, Washington, DC. 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC. on April 12, 2005.
Grady C. Cothen, Jr.,
Deputy Associate Administrator for Safety Standards and Program Development.

[FR Doc. 05-7642 Filed 4-15-05; 8:45 am]

BILLING CODE 4910-06-P